DEPARTMENT OF TRANSPORTATION

Federal Aviation Administration

14 CFR Part 39

[Docket No. FAA-2014-0341; Directorate Identifier 2014-NM-102-AD; Amendment 39-17874; AD 2014-12-13]

RIN 2120-AA64

Airworthiness Directives; the Boeing Company Airplanes

AGENCY: Federal Aviation Administration (FAA), DOT.

ACTION: Final rule; request for comments.

SUMMARY: We are superseding Airworthiness Directive (AD) 2014-03-06 for all the Boeing Company Model 737-100, -200, -200C, -300, -400, and -500 series airplanes. AD 2014-03-06 required repetitive inspections for cracking of the aft support fitting for the main landing gear (MLG) beam, and the rear spar upper chord and rear spar web in the area of rear spar station (RSS) 224.14; and repair if necessary. This AD clarifies two paragraph references. This AD was prompted by a determination that two paragraph references were in error. We are issuing this AD to detect and correct cracking of the aft support fitting for the main landing gear (MLG) beam, and the rear spar upper chord and rear spar web in the area of rear spar station (RSS) 224.14, which could grow and result in a fuel leak and possible fire.

DATES: This AD is effective July 25, 2014.

The Director of the Federal Register approved the incorporation by reference of a certain publication listed in this AD as of April 9, 2014 (79 FR 12368, March 5, 2014).

We must receive any comments on this AD by August 25, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0341; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Nancy Marsh, Aerospace Engineer, Airframe Branch, ANM-120S, FAA, Seattle Aircraft Certification Office (ACO), 1601 Lind Avenue SW., Renton, WA 98057-3356; phone: 425-917-6440; fax: 425-917-6590; email: nancy.marsh@faa.gov.

SUPPLEMENTARY INFORMATION:

Discussion

On January 18, 2014, we issued AD 2014-03-06, Amendment 39-17743 (79 FR 12368, March 5, 2014), for all the Boeing Company Model 737-100, -200, -200C, -300, -400, and -500 series airplanes. AD 2014-03-06 required repetitive inspections for cracking of the aft support fitting for the main landing gear (MLG) beam, and the rear spar upper chord and rear spar web in the area of rear spar station (RSS) 224.14; and repair if necessary. AD 2014-03-06 resulted from reports of cracks found in the aft support fitting, the rear spar upper chord, and the rear spar web. We issued AD 2014-03-06 to detect and correct cracking of the aft support fitting for the main landing gear (MLG) beam, and the rear spar upper chord and rear spar web in the area of rear spar station (RSS) 224.14, which could grow and result in a fuel leak and possible fire.

Actions Since AD 2014-03-06 Was Issued

Since we issued AD 2014-03-06, Amendment 39-17743 (79 FR 12368, March 5, 2014), two incorrect paragraph references were found. The references to paragraphs (g) and (g)(1) in paragraph (h)(2) of AD 2014-03-06 are incorrect. The correct reference should be to the introductory text of paragraph (h) and paragraph (h)(1) of AD 2014-03-06. Paragraph (h)(2) of AD 2014-03-06 is the corrective action for the inspections required by the introductory text of paragraph (h) and paragraph (h)(1) of this AD. In order to mandate the corrective actions for the inspections required by the introductory text of paragraph (h) and paragraph (h)(1) of this AD, we have revised the references in paragraph (h)(2) of this AD.

FAA's Determination

We are issuing this AD because we evaluated all the relevant information and determined the unsafe condition described previously is likely to exist or develop in other products of these same type designs.

AD Requirements

This AD requires repetitive inspections for cracking of the aft support fitting for the MLG beam, and the rear spar upper chord and rear spar web in the area of RSS 224.14; and repair if necessary. This AD corrects these paragraph references.

FAA's Justification and Determination of the Effective Date

AD 2014-03-06, Amendment 39-17743 (79 FR 12368, March 5, 2014), clearly indicated that inspections, and repairs if necessary, are required. Since this new AD merely corrects incorrect paragraph references, notice and opportunity for public comment before issuing this AD are unnecessary.

Comments Invited

This AD is a final rule that involves requirements affecting flight safety, and we did not provide you with notice and an opportunity to provide your comments before it becomes effective. However, we invite you to send any written data, views, or arguments about this AD. Send your comments to an address listed under the ADDRESSES section. Include the docket number FAA-2014-0341 and directorate identifier 2014-NM-102-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 353 airplanes of U.S. registry.

We estimate the following costs to comply with this AD:

Estimated Costs
Action | Labor cost | Parts cost | Cost per product | Cost on U.S. operators
Inspection [Retained actions from AD 2014-03-06, Amendment 39-17743 (79 FR 12368, March 5, 2014)] | Up to 86 work-hours × $85 per hour = $7,310 per inspection cycle | $0 | Up to $7,310 per inspection cycle | Up to $2,580,430 per inspection cycle.

We have received no definitive data that would enable us to provide cost estimates for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-03-06, Amendment 39-17743 (79 FR 12368, March 5, 2014), and adding the following new AD:

2014-12-13 The Boeing Company: Amendment 39-17874; Docket No. FAA-2014-0341; Directorate Identifier 2014-NM-102-AD.

(a) Effective Date

This AD is effective July 25, 2014.

(b) Affected ADs

This AD replaces AD 2014-03-06, Amendment 39-17743 (79 FR 12368, March 5, 2014).

(c) Applicability

(1) This AD applies to all The Boeing Company Model 737-100, -200, -200C, -300, -400, and -500 series airplanes, certificated in any category.

(2) Installation of Supplemental Type Certificate (STC) ST01219SE (http://rgl.faa.gov/Regulatory_and_Guidance_Library/rgstc.nsf/0/2C6E3DBDDD36F91C862576A4005D64E2?OpenDocument&Highlight=st01219se) does not affect the ability to accomplish the actions required by this AD. Therefore, for airplanes on which STC ST01219SE is installed, a “change in product” alternative method of compliance (AMOC) approval request is not necessary to comply with the requirements of 14 CFR 39.17.

(d) Subject

Air Transport Association (ATA) of America Code 57, Wings.

(e) Unsafe Condition

This AD was prompted by reports of cracks found in the aft support fitting, the rear spar upper chord, and the rear spar web. We are issuing this AD to detect and correct cracking of the aft support fitting for the main landing gear (MLG) beam, and the rear spar upper chord and rear spar web in the area of rear spar station (RSS) 224.14, which could grow and result in a fuel leak and possible fire.

(f) Compliance

Comply with this AD within the compliance times specified, unless already done.

(g) Retained Inspections: Group 1 Airplanes

This paragraph restates the actions required by paragraph (g) of AD 2014-03-06, Amendment 39-17743 (79 FR 12368, March 5, 2014) with no changes. For airplanes identified in Group 1 of Boeing Special Attention Service Bulletin 737-57-1318, dated May 15, 2013: At the applicable time specified in paragraph 1.E., “Compliance,” of Boeing Special Attention Service Bulletin 737-57-1318, dated May 15, 2013, except as required by paragraph (i) of this AD, do inspections and applicable corrective actions using a method approved in accordance with the procedures specified in paragraph (j) of this AD.

(h) Retained Inspections: Groups 2-7 Airplanes

This paragraph restates the actions required by the introductory text of paragraph (h) of AD 2014-03-06, Amendment 39-17743 (79 FR 12368, March 5, 2014) with no changes. For airplanes identified in Groups 2 through 7 of Boeing Special Attention Service Bulletin 737-57-1318, dated May 15, 2013: At the applicable time specified in paragraph 1.E., “Compliance,” of Boeing Special Attention Service Bulletin 737-57-1318, dated May 15, 2013, except as required by paragraph (i) of this AD, do high frequency eddy current inspections to detect cracking of the aft support fitting for the MLG beam, and the rear spar upper chord and rear spar web in the area of rear spar station 224.14, as applicable, in accordance with Option 1, 2, or 3 of the Accomplishment Instructions of Boeing Special Attention Service Bulletin 737-57-1318, dated May 15, 2013.

(1) This paragraph restates the actions required by paragraph (h)(1) of AD 2014-03-06, Amendment 39-17743 (79 FR 12368, March 5, 2014) with no changes. If no crack is found, repeat the inspection thereafter at the time specified in paragraph 1.E., “Compliance,” of Boeing Special Attention Service Bulletin 737-57-1318, dated May 15, 2013, as applicable. Accomplishment of the inspection of the 12 fastener holes (locations 1-12) in accordance with Option 2, Action 3; or Option 3, Action 3; as specified in note (b) of tables 2 through 5 of paragraph 1.E., “Compliance,” of Boeing Special Attention Service Bulletin 737-57-1318, dated May 15, 2013; terminates only the corresponding inspections that include note (b) in the “Repeat Interval” column of the applicable table.

(2) This paragraph restates the actions required by paragraph (h)(2) of AD 2014-03-06, Amendment 39-17743 (79 FR 12368, March 5, 2014), with revised paragraph references to the introductory text of paragraph (h) and to paragraph (h)(1) of this AD to mandate corrective actions. If any crack is found during any inspection required by the introductory text of paragraph (h) or by paragraph (h)(1) of this AD, repair before further flight using a method approved in accordance with the procedures specified in paragraph (j) of this AD.

(i) Retained Exception to Service Information Specifications

This paragraph restates the actions required by paragraph (i) of AD 2014-03-06, Amendment 39-17743 (79 FR 12368, March 5, 2014), with no changes. Where Boeing Special Attention Service Bulletin 737-57-1318, dated May 15, 2013, specifies a compliance time “after the original issue date of this service bulletin,” this AD requires compliance within the specified compliance time after April 9, 2014 (the effective date of AD 2014-03-06).

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA), which has been authorized by the Manager, Seattle ACO, to make those findings. For a repair method to be approved, the repair must meet the certification basis of the airplane, and the approval must specifically refer to this AD.

(4) AMOCs approved for AD 2014-03-06, Amendment 39-17743 (79 FR 12368, March 5, 2014), are approved as AMOCs for the corresponding provisions of this AD.

(k) Related Information

For more information about this AD, contact Nancy Marsh, Aerospace Engineer, Airframe Branch, ANM-120S, FAA, Seattle Aircraft Certification Office (ACO), 1601 Lind Avenue SW., Renton, WA 98057-3356; phone: 425-917-6440; fax: 425-917-6590; email: nancy.marsh@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 9, 2014 (79 FR 12368, March 5, 2014).

(i) Boeing Special Attention Service Bulletin 737-57-1318, dated May 15, 2013.

(ii) Reserved.

(4) For service information identified in this AD, contact Boeing Commercial Airplanes, Attention: Data & Services Management, P.O. Box 3707, MC 2H-65, Seattle, WA 98124-2207; telephone 206-544-5000, extension 1; fax 206-766-5680; Internet https://www.myboeingfleet.com.

(5) You may view this service information at FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington on June 6, 2014.
Jeffrey E. Duven,
Manager, Transport Airplane Directorate, Aircraft Certification Service.

[FR Doc. 2014-14475 Filed 7-9-14; 8:45 am]

BILLING CODE 4910-13-P